DEPARTMENT OF JUSTICE

Notice of Lodging of Proposed Consent Decree Under the Comprehensive Environmental Response, Compensation and Liability Act

On April 4, 2018, the Department of Justice lodged a proposed consent decree with the United States District Court for the Eastern District of Missouri in the lawsuit entitled United States and State of Missouri v. The Doe Run Resources Corporation, Civil Action No. 18-502.

The United States filed this lawsuit under the Comprehensive Environmental Response, Compensation and Liability Act (CERCLA). The United States' complaint names The Doe Run Resources Corporation as the Defendant. The complaint seeks recovery of costs that the United States incurred responding to releases of hazardous substances at the Big River Mine Tailings Superfund Site in St. Francois County, Missouri. The complaint also seeks injunctive relief in the form of the performance of the selected remedy for Operable Unit 01 of the Site.

The Consent Decree requires the defendant to perform the selected remedy on approximately 4,100 affected residential properties, to perform a removal action at the Hayden Creek Mine Waste Area, and to provide the Environmental Protection Agency and its contractors with free access to defendant's soil repository at the Leadwood site. The Environmental Protection Agency will reimburse the Defendant for up to forty percent of the costs it incurs performing the work required by the consent decree, up to a maximum of $31.56 million. In return for the Defendant's commitments, the United States agrees not to sue the Defendant under Sections 106 and 107 of CERCLA.

The Consent Decree also requires the United States, on behalf of the Department of Defense, Department of the Army, Department of the Treasury, and Department of the Interior, to make a monetary payment to Doe Run, and resolves the United States' potential liability under CERCLA related to Operable Unit 01 at the Big River Mine Tailings Superfund Site, including any liability the United States may have to Doe Run under Section 113 of CERCLA.

The publication of this notice opens a period for public comment on the consent decree. Comments should be addressed to the Assistant Attorney General, Environment and Natural Resources Division, and should refer to United States and State of Missouri v. The Doe Run Resources Corporation, D.J. Ref. No. 90-11-3-09306/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $12.00 (25 cents per page reproduction cost) payable to the United States Treasury.

Susan Akers,
Assistant Section Chief, Environmental Enforcement Section, Environment and Natural Resources Division.

[FR Doc. 2018-07229 Filed 4-9-18; 8:45 am]

BILLING CODE 4410&ndash15-P